DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans) and the United States Forest Service (Plumas National Forest) to issue a special use permit to Caltrans.

SUMMARY: The FHWA, on behalf of Caltrans, is issuing this notice to announce actions taken by Caltrans that are final. The actions relate to a proposed highway project, State Route 82, postmiles 12.3 to 15.9, in the County San Mateo, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before October 11, 2022. If the Federal law that authorizes judicial review of a claim provides a time period of less than 150 days for filing such claim, then that shorter time period still applies.

FOR FURTHER INFORMATION CONTACT: For Caltrans District 4: Yolanda Rivas, Senior Environmental Planner, Caltrans Office of Environmental Planning and Engineering, California Department of Transportation—District 4, 111 Grand Avenue, Oakland, CA 95901. Office Hours: 8:00 a.m.-5:00 p.m., Pacific Standard Time, telephone (510) 506-1461 or email yolanda.rivas@dot.ca.gov. For FHWA, contact Shawn Oliver at (916) 498-5048 or email Shawn.Oliver@dot.gov.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the following highway project in the State of California: Remove and reconstruct entire roadway pavement structural section between East Santa Inez (PM 12.3) and Murchison Drive (PM 15.8). A total of 34 new drainage inlets would be installed, and 25 existing drainage inlets would be modified to conform to changes to curb ramps. All existing reinforced concrete pipes, clay pipes, and metal pipes smaller than 18 inches would be replaced with 18-inch polyvinyl chloride pipes. All existing sidewalks from East Santa Inez Avenue (PM 12.3) to Dufferin Avenue (PM 15.3) would be upgraded, ranging from 5 to 6 feet in width, to comply with ADA standards. Other pedestrian improvements include touch-free APS and CPS at signalized intersections, pedestrian hybrid beacons at uncontrolled intersections, realignment of existing crosswalks, advance stop pavement markings, adjustments to signal timing to provide for a leading pedestrian interval. Two design options regarding utilities are being evaluated (1) Utility poles would be removed and relocated at various locations throughout the project limits to conform to infrastructure upgrades, or (2) existing electrical transmission, telecommunications, and cable TV lines that currently run along poles above the roadway would be relocated underground from Barroilhet Avenue (PM 12.9) to Ray Drive/Rosedale Avenue (PM 15.2). The actions by the Federal agencies, and the laws under which such actions were taken, are described in the Final Environmental Impact Statement (FEIS) approved on April 20, 2022, and in other documents in the Caltrans' project records. The FEIS and other project records are available by contacting Caltrans at the addresses provided above. The Caltrans FEIS can be viewed and downloaded from www.ecralternatives.com. This notice applies to all Federal agency decisions as of the issuance date of this notice and all laws under which such actions were taken, including but not limited to:

1. Council on Environmental Quality Regulations (40 CFR 1500 et seq., 23 CFR 771);

2. National Environmental Policy Act of 1969 (NEPA), as amended, 42 U.S.C. 4321 et seq.;

3. Federal-Aid Highway Act, (23 U.S.C. 109, as amended by FAST Act Section 1404(a), Public Law 114-94, and 23 U.S.C. 128);

4. MAP-21, the Moving Ahead for Progress in the 21st Century Act (Pub. L. 112-141);

5. Clean Air Act, as amended (42 U.S.C. 7401 et seq. (Transportation Conformity, 40 CFR part 93);

6. Clean Water Act of 1977 (33 U.S.C. 1251 et seq.);

7. Federal Water Pollution Control Act of 1972 (see Clean Water Act of 1977 & 1987);

8. Federal Land Policy and Management Act of 1976, Public Law 94-579;

9. Noise Control Act of 1972;

10. Safe Drinking Water Act, as amended (42 U.S.C. 300f et seq.);

11. Endangered Species Act of 1973 (16 U.S.C. 1531-1544 and Section 1536);

12. Executive Order 11990, Protection of Wetlands;

13. Executive Order 13186, Migratory Birds;

14. Fish and Wildlife Coordination Act of 1934, as amended;

15. Executive Order 13112, Invasive Species;

16. Executive Order 11988, Floodplain Management;

17. Title VI of the Civil Rights Act of 1964, as amended;

18. Executive Order 12898, Federal Actions to Address Environmental Justice and Low-Income Populations.

19. Department of transportation Act of 1966, Section 4(f) (49 U.S.C. 303 and 23 U.S.C. 138);

20. National Historic Preservation Act of 1966, as amended (54 U.S.C. 306108 et seq.)

(Catalog of Federal Domestic Assistance Program Number 20.205, Highway Planning and Construction. The regulations implementing Executive Order 12372 regarding intergovernmental consultation on Federal programs and activities apply to this program.)

Authority: 23 U.S.C. 139(l)(1).

Dated: April 20, 2022.
Signed Electronically,
Christina Leach,
Acting Director, Planning, Environment and Right of Way, Federal Highway Administration, California Division.

[FR Doc. 2022-10068 Filed 5-10-22; 8:45 am]

BILLING CODE 4910-RY-P